Title 3—

The President

Proclamation 10157 of March 19, 2021

National Poison Prevention Week, 2021

By the President of the United States of America

A Proclamation

Sixty years ago, the Congress established National Poison Prevention Week to remind all Americans to stay vigilant and protect our families from the often hidden threat of poisoning. Never has that reminder been more timely than this year—9 out of 10 poisonings occur inside the home, and with families spending more time indoors due to the COVID-19 pandemic, children and isolated seniors are at an increased risk of accidental poisoning that could result in injury or death.

Young children are particularly vulnerable to accidental poisoning because—as every parent knows—children tend to explore objects with their hands and mouths. That's especially true when it comes to products with floral or fruity aromas, or those that come in colorful packaging. Hand sanitizer, household cleaning products, laundry packets, medications, coin cell batteries, and liquid nicotine are among the most commonly ingested products; these and similar items should be stored in child-resistant packaging and kept out of sight and out of reach of children. Medications should be secured and, if possible, locked away. And unfinished or unused medicine should be properly discarded—many pharmacies and police departments have disposal kiosks for just that purpose.

In 2019, approximately 67,500 of our Nation's children under the age of 5 had to visit the emergency room due to unintended poisoning. About 85 percent of these incidents occurred in the home, most often because they ingested blood pressure medications, acetaminophen, bleach, ibuprofen, antidepressants, attention deficit disorder medications, or laundry packets. Elderly Americans are also at risk of mistaking medications and ingesting household products; for seniors who are isolated due to the pandemic, it is particularly important to secure and clearly label medications and poisonous substances.

Poison control centers are a vital component of our Nation's response to poisonings. Centers across the United States operate around the clock and respond to approximately three million calls every year from the public, as well as from health care providers, 911 public-safety access points, health departments, law enforcement, first responders, and other safety agencies. They represent our first line of defense in many cases, including when it comes to the opioid epidemic that continues to devastate so many of our families and communities.

According to the Centers for Disease Control and Prevention, overdose deaths have increased significantly in the past several years. Opioids are the main driver for this increase, killing nearly 47,000 people in the United States in 2018. Two out of three opioid-involved overdose deaths involve synethic opioids, including illegally manufactured fentanyl. When used in combination with other drugs, with or without the user's knowledge, it can be poisonous and deadly.

But even legal substances, like liquid nicotine, can pose a deadly risk. Ingestion of small amounts of liquid nicotine can be extremely hazardous and even deadly to children, which is why the Consumer Product Safety Commission has warned vape shops and other retailers that selling liquid nicotine without proper packaging violates Federal law. To avoid potential poisonings, always store liquid nicotine in its child-resistant packaging, tightly seal the container after each use, and keep it locked or stored away from children.

If you believe someone has been poisoned, immediately call the Poison Control Help line at 800-222-1222. For more information, go to poisonhelp.org.

To encourage Americans to learn more about the dangers of unintentional poisonings and to take appropriate preventive measures, on September 26, 1961, the United States Congress, by joint resolution (75 Stat. 681), authorized and requested the President to issue a proclamation designating the third week of March each year as “National Poison Prevention Week.”

NOW, THEREFORE, I, JOSEPH R. BIDEN JR., President of the United States of America, do hereby proclaim March 21 through March 27, 2021, to be National Poison Prevention Week. I call upon all Americans to observe this week by taking actions to safeguard their families from poisonous products, chemicals, and medicines often found in our homes, and to raise awareness of these dangers to prevent accidental injuries and deaths.

IN WITNESS WHEREOF, I have hereunto set my hand this nineteenth day of March, in the year of our Lord two thousand twenty-one, and of the Independence of the United States of America the two hundred and forty-fifth.

[FR Doc. 2021-06252

Filed 3-23-21; 11:15 am]

Billing code 3295-F1-P